DEPARTMENT OF TRANSPORTATION

National Highway Traffic Safety Administration

[Docket No. NHTSA-2019-0020; Notice 1]

FCA US, LLC, Receipt of Petition for Decision of Inconsequential Noncompliance

Correction

In notice document 2020-04106, appearing on pages 12059-12062 in the issue of Friday, February 28, 2020, make the following correction:

On page 12059, in the third column, on the tenth line from the top, “February 28, 2020” is corrected to read “March 30, 2020.”

[FR Doc. C1-2020-04106 Filed 3-6-20; 8:45 am]

BILLING CODE 1301-00-D